DEPARTMENT OF COMMERCE

National Oceanic and Atmospheric Administration

RIN 0648-XW45

Atlantic Coastal Fisheries Cooperative Management Act Provisions; Weakfish Fishery

AGENCY: National Marine Fisheries Service (NMFS), National Oceanic and Atmospheric Administration (NOAA), Commerce.

ACTION: Notice of non-compliance findings.

SUMMARY: On May 6, 2010, the Atlantic States Marine Fisheries Commission (Commission) found the State of North Carolina out of compliance with the Commission's Interstate Fishery Management Plan (ISFMP) for Weakfish. Subsequently, the Commission referred the matter to NMFS in a letter dated May 7, 2010, under delegation of authority from the Secretary of Commerce (Secretary), for Federal non-compliance review under the provisions of the Atlantic Coastal Fisheries Cooperative Management Act (Atlantic Coastal Act). The Atlantic Coastal Act mandates that NMFS must review the Commission's non-compliance referral and make specific findings within 30 days after receiving the referral. On May 25, 2010, the Secretary was notified by the Commission that North Carolina had taken corrective action to comply with the management measures in the ISFMP, and the Commission now finds North Carolina in compliance with the Plan. NMFS concurs with this finding and concludes its obligations for this particular non-compliance referral.

DATES: Effective May 25, 2010.

ADDRESSES: Written comments should be sent to Emily Menashes, Acting Director, Office of Sustainable Fisheries, NMFS, 1315 East-West Highway, Room 13362, Silver Spring, MD 20910. Mark the outside of the envelope “Comments on Weakfish Non-Compliance.” Comments may also be sent via fax to (301) 713-0596.

FOR FURTHER INFORMATION CONTACT: Brian Hooker, Fishery Management Specialist, NMFS Office of Sustainable Fisheries, (301) 713-2334.

SUPPLEMENTARY INFORMATION: The Weakfish ISFMP includes management measures for weakfish, also known as grey sea trout, in state and Federal waters. The Commission believes that implementation of these regulations is necessary to rebuild depleted weakfish stocks. North Carolina is consistently one of the top three states for weakfish landings by volume and thus integral to the successful implementation of the ISFMP. On May 4, 2010, the Commission's Weakfish Management Board found the State of North Carolina out of compliance for not fully and effectively implementing and enforcing the Weakfish ISFMP. The Commission's Policy Board and Business Session similarly voted North Carolina out of compliance on May 6, 2010. The Commission subsequently referred its non-compliance finding to NMFS on May 7, 2010.

Federal response to a Commission non-compliance referral is governed by the Atlantic Coastal Act. Under the Atlantic Coastal Act, the Secretary must make two findings within 30 days after receiving the non-compliance referral. First, the Secretary must determine whether the state in question (in this case, North Carolina) has failed to carry out its responsibilities under the ISFMP. Second, the Secretary must determine whether the measures that the State has failed to implement or enforce are necessary for the conservation of the fishery in question. If the Secretary makes affirmative findings on both criteria, then the Secretary must implement a moratorium on fishing in the fishery in question within the waters of the non-complying state. Further, the moratorium must become effective within six months of the date of the Secretary's non-compliance determination. To the extent that the state later implements the ISFMP measures, the Atlantic Coastal Act allows the state to petition the Commission that it has come back into compliance; if the Commission concurs, the Commission will notify the Secretary and, if the Secretary concurs, the moratorium will be withdrawn. The Secretary has delegated Atlantic Coastal Act authorities to the Assistant Administrator for Fisheries at NMFS.

NMFS notified the State of North Carolina, the Commission, the South Atlantic Fishery Management Council, the Mid-Atlantic Fishery Management Council, and the New England Fishery Management Council, in separate letters, of its receipt of the Commission's non-compliance referral. In the letters, NMFS solicited comments from the Commission and Councils. NMFS also informed the State of North Carolina that the State is entitled to meet with and present its comments directly to NMFS.

On May 21, 2010, the North Carolina Division of Marine Fisheries adopted management measures implementing the Weakfish ISFMP. On May 24, 2010, NMFS met with the North Carolina Division of Marine Fisheries regarding implementation of the ISFMP. On May 25, 2010, the Commission notified the Secretary that North Carolina had taken corrective action to comply with the management measures in the ISFMP, and the Commission now finds North Carolina in compliance with the Weakfish ISFMP. NMFS reviewed the ISFMP and North Carolina's recently approved weakfish management measures and agrees with the Commission that North Carolina's newly enacted measures comply with the requirements of the Weakfish ISFMP. Therefore, NMFS determines that North Carolina is now carrying out its responsibilities under the Commission's Weakfish ISFMP and that the state is in compliance. With such a determination, NMFS' statutory responsibilities in this matter are discharged, the basis for further proceedings no longer exists, and the matter is concluded.

Authority: 16 U.S.C. 5101 et seq.

Dated: June 8, 2010
Samuel D. Rauch III,
Deputy Assistant Administrator For Regulatory Programs, National Marine Fisheries Service.

[FR Doc. 2010-14064 Filed 6-8-10; 4:15 pm]

BILLING CODE 3510-22-S